DEPARTMENT OF COMMERCE

National Oceanic and Atmospheric Administratio n

RIN 0648-XS41

Marine Mammals; File No. 87-1851

AGENCY: National Marine Fisheries Service (NMFS), National Oceanic and Atmospheric Administration (NOAA), Commerce.

ACTION: Notice; issuance of permit amendment.

SUMMARY: Notice is hereby given that Daniel P. Costa, Ph.D., University of California at Santa Cruz, Long Marine Laboratory, 100 Shaffer Road, Santa Cruz, CA has been issued a major amendment to Permit No. 87-1851-02.

ADDRESSES: The permit amendment and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Amy Sloan or Tammy Adams, Ph.D., (301)713-2289.

SUPPLEMENTARY INFORMATION: On July 8, 2010, notice was published in the Federal Register (75 FR 39206) that a request for an amendment to Permit No. 87-1851-02 to conduct research on Weddell seals (Leptonychotes weddellii) had been submitted by the above-named applicant. The requested permit amendment has been issued under the authority of the Marine Mammal Protection Act of 1972, as amended (16 U.S.C. 1361 et seq.), and the regulations governing the taking and importing of marine mammals (50 CFR part 216).

Permit No. 87-1851-03 authorizes the permit holder to conduct a metabolic study on eight of 40 Weddell seals authorized for capture, tagging, and sampling in the Ross Sea. Permit No. 87-1851-03 expires on January 31, 2012.

In compliance with the National Environmental Policy Act of 1969 (42 U.S.C. 4321 et seq.), a final determination has been made that the activity proposed is categorically excluded from the requirement to prepare an environmental assessment or environmental impact statement.

Dated: September 7, 2010.
P. Michael Payne,
Chief, Permits, Conservation and Education Division, Office of Protected Resources, National Marine Fisheries Service.

[FR Doc. 2010-22895 Filed 9-13-10; 8:45 am]

BILLING CODE 3510-22-S